DEPARTMENT OF HEALTH AND HUMAN SERVICES

National Institutes of Health

National Heart, Lung, and Blood Institute; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Heart, Lung, and Blood Institute Special Emphasis Panel, The Role of Cardiomyocyte Mitochondria in Heart Disease: An Integrated Approach.

Date: November 5-6, 2009.

Time: 8 a.m. to 5 p.m.

Agenda: To review and evaluate grant applications.

Place: Sheraton Columbia Hotel, 10207 Wincopin Circle, Columbia, MD 21044.

Contact Person: David A Wilson, Ph.D, Scientific Review Officer, Review Branch/DERA, National Heart, Lung, and Blood Institute, 6701 Rockledge Drive, Room 7204, Bethesda, MD 20892-7924. 301-435-0299. wilsonda2@nhlbi.nih.gov.

Name of Committee:National Heart, Lung, and Blood Institute Special Emphasis Panel, Phase II Clinical Trials of Novel Therapies for Lung Diseases.

Date:November 5, 2009.

Time:8:30 a.m. to 5 p.m.

Agenda:To review and evaluate grant applications.

Place:Hyatt Regency Bethesda, One Bethesda Metro Center, 7400 Wisconsin Avenue, Bethesda, MD 20814.

Contact Person:YingYing Li-Smerin, MD, Ph.D, Deputy Chief, Heart and Lung Branch, Office of Scientific Review, National Heart, Lung, and Blood Institute, Rockledge Center II, Room 7184, Bethesda, MD 20892-7924. 301-435-0277 lismerin@nhlbi.nih.gov.

.

Name of Committee:National Heart, Lung, and Blood Institute Special Emphasis Panel, Research Demonstration and Dissemination Projects.

Date:November 5, 2009.

Time:1 p.m. to 3 p.m.

Agenda:To review and evaluate grant applications.

Place:National Institutes of Health, 6701 Rockledge Drive, Bethesda, MD 20892 (Telephone Conference Call).

Contact Person:Holly K Krull, Ph.D, Scientific Review Officer, Review Branch/DERA, National Heart, Lung, and Blood Institute, 6701 Rockledge Drive, Room 7188, Bethesda, MD 20892-7924. 301-435-0280. krullh@nhlbi.nih.gov.

Name of Committee:National Heart, Lung, and Blood Institute Special Emphasis Panel, Program Project in Mental Stress Ischemia.

Date:November 10, 2009.

Time:8:30 a.m. to 5 p.m.

Agenda:To review and evaluate grant applications.

Place:The Westin Arlington Gateway, 801 N. Glebe Road, Arlington, VA 22203.

Contact Person:Holly K Krull, Ph.D, Scientific Review Officer, Review Branch/DERA, National Heart, Lung, and Blood Institute, 6701 Rockledge Drive, Room 7188, Bethesda, MD 20892-7924. 301-435-0280. krullh@nhlbi.nih.gov.

Name of Committee:National Heart, Lung, and Blood Institute Special Emphasis Panel, Program Project in Atrial Fibrillation.

Date:November 10, 2009.

Time:10 a.m. to 3 p.m.

Agenda:To review and evaluate grant applications.

Place:Hyatt Regency Bethesda, One Bethesda Metro Center, 7400 Wisconsin Avenue, Bethesda, MD 20814.

Contact Person:William J Johnson, Ph.D, Scientific Review Officer, Review Branch/DERA, National Heart, Lung, and Blood Institute, 6701 Rockledge Drive, Room 7178, Bethesda, MD 20892-7924. 301-435-0725. johnsonwj@nhlbi.nih.gov.

Name of Committee:National Heart, Lung, and Blood Institute Special Emphasis Panel, Program Project in Cardiovascular Diseases.

Date:November 11, 2009.

Time:1 p.m. to 5 p.m.

Agenda:To review and evaluate grant applications.

Place:National Institutes of Health, 6701 Rockledge Drive, Bethesda, MD 20892. (Telephone Conference Call).

Contact Person:Holly K Krull, Ph.D, Scientific Review Officer, Review Branch/DERA, National Heart, Lung, and Blood Institute, 6701 Rockledge Drive, Room 7188, Bethesda, MD 20892-7924. 301-435-0280. krullh@nhlbi.nih.gov.

(Catalogue of Federal Domestic Assistance Program Nos. 93.233, National Center for Sleep Disorders Research; 93.837, Heart and Vascular Diseases Research; 93.838, Lung Diseases Research; 93.839, Blood Diseases and Resources Research, National Institutes of Health, HHS)

Dated: October 14, 2009.
Jennifer Spaeth,
Director, Office of Federal Advisory Committee Policy.

[FR Doc. E9-25284 Filed 10-20-09; 8:45 am]

BILLING CODE 4140-01-P